DEPARTMENT OF TRANSPORTATION

Federal Railroad Administration

[Docket Number FRA-2007-28454]

Petition for Waiver of Compliance

Under part 211 of title 49 Code of Federal Regulations (CFR), this document provides the public notice that on February 23, 2021, Union Pacific Railroad Company (UPRR) petitioned the Federal Railroad Administration (FRA) for an extension and expansion of a waiver of compliance from certain provisions of the Federal railroad safety regulations contained at 49 CFR part 232, Brake System Safety Standards for Freight and Other Non-Passenger Trains and Equipment; End-Of-Train Devices. FRA assigned the petition Docket Number FRA-2007-28454.

UPRR's current waiver provides conditional relief from the requirements for performing the single car air brake test (SCABT) as prescribed in 49 CFR 232.305(b)(2), Single car air brake tests. The relief allows UPRR to replace non-FRA condemnable wheelsets on railcars as part of an in-train wheelset replacement program at North Platte, Nebraska, without the need to also perform the SCABT as required, if the car has not received a SCABT within the previous 12 months.

In this petition, UPRR requests to expand the scope of conditions one and two of FRA's decision letter, dated September 6, 2018. In condition one, UPRR requests to extend the relief of in-train wheel replacement beyond the North Platte, Nebraska, facility to also include the Roseville, California, facility. In condition two, UPRR requests to expand the applicability of the waiver beyond empty coal cars in unit train service to also include covered hopper cars in unit train service. UPRR additionally requests that the relief be extended.

UPRR states that the original waiver and subsequent extensions have had no adverse effect on safety, and that UPRR has operated under the guidelines set forth in the waiver.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by May 20, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-06951 Filed 4-2-21; 8:45 am]

BILLING CODE 4910-06-P